DEPARTMENT OF THE INTERIOR

Fish and Wildlife Service

50 CFR Part 20

RIN 1018-AT76

Migratory Bird Hunting; Supplemental Proposals for Migratory Game Bird Hunting Regulations for the 2006-07 Hunting Season; Notice of Meetings

AGENCY: Fish and Wildlife Service, Interior.

ACTION: Proposed rule; supplemental.

SUMMARY: The U.S. Fish and Wildlife Service (hereinafter, Service or we) proposed in an earlier document to establish annual hunting regulations for certain migratory game birds for the 2006-07 hunting season. This supplement to the proposed rule provides the regulatory schedule; announces the Service Migratory Bird Regulations Committee and Flyway Council meetings; provides Flyway Council recommendations resulting from their March meetings; and provides regulatory alternatives for the 2006-07 duck hunting seasons.

DATES: The Service Migratory Bird Regulations Committee will meet to consider and develop proposed regulations for early-season migratory bird hunting on June 21 and 22, 2006, and for late-season migratory bird hunting and the 2007 spring/summer migratory bird subsistence seasons in Alaska on July 26 and 27, 2006. All meetings will commence at approximately 8:30 a.m. Following later Federal Register notices, you will be given an opportunity to submit comments for proposed early-season frameworks by July 30, 2006, and for proposed late-season frameworks and subsistence migratory bird seasons in Alaska by August 30, 2006.

ADDRESSES: The Service Migratory Bird Regulations Committee will meet in room 200 of the U.S. Fish and Wildlife Service's Arlington Square Building, 4401 N. Fairfax Drive, Arlington, Virginia. Send your comments on the proposals to the Chief, Division of Migratory Bird Management, U.S. Fish and Wildlife Service, Department of the Interior, MS MBSP-4107-ARLSQ, 1849 C Street, NW., Washington, DC 20240. All comments received, including names and addresses, will become part of the public record. You may inspect comments during normal business hours in room 4107, Arlington Square Building, 4501 North Fairfax Drive, Arlington, Virginia.

FOR FURTHER INFORMATION CONTACT: Ron W. Kokel, at: Division of Migratory Bird Management, U.S. Fish and Wildlife Service, Department of the Interior, MS MBSP-4107-ARLSQ, 1849 C Street, NW., Washington, DC 20240, (703) 358-1714.

SUPPLEMENTARY INFORMATION:

Regulations Schedule for 2006

On April 11, 2006, we published in the Federal Register (71 FR 18562) a proposal to amend 50 CFR part 20. The proposal provided a background and overview of the migratory bird hunting regulations process, and dealt with the establishment of seasons, limits, and other regulations for hunting migratory game birds under §§ 20.101 through 20.107, 20.109, and 20.110 of subpart K. This document is the second in a series of proposed, supplemental, and final rules for migratory game bird hunting regulations. We will publish proposed early-season frameworks in early July and late-season frameworks in early August. We will publish final regulatory frameworks for early seasons on or about August 18, 2006, and for late seasons on or about September 15, 2006.

Service Migratory Bird Regulations Committee Meetings

The Service Migratory Bird Regulations Committee will meet June 21-22, 2006, to review information on the current status of migratory shore and upland game birds and develop 2006-07 migratory game bird regulations recommendations for these species plus regulations for migratory game birds in Alaska, Puerto Rico, and the Virgin Islands. The Committee will also develop regulations recommendations for special September waterfowl seasons in designated States, special sea duck seasons in the Atlantic Flyway, and extended falconry seasons. In addition, the Committee will review and discuss preliminary information on the status of waterfowl.

At the July 26-27, 2006, meetings, the Committee will review information on the current status of waterfowl and develop 2006-07 migratory game bird regulations recommendations for regular waterfowl seasons and other species and seasons not previously discussed at the early-season meetings. In addition, the Committee will develop recommendations for the 2007 spring/summer migratory bird subsistence season in Alaska.

In accordance with Departmental policy, these meetings are open to public observation. You may submit written comments to the Service on the matters discussed.

Announcement of Flyway Council Meetings

Service representatives will be present at the individual meetings of the four Flyway Councils this July. Although agendas are not yet available, these meetings usually commence at 8 a.m. on the days indicated.

Atlantic Flyway Council: July 20-21, Embassy Suites, 337 Meeting Street, Charleston, South Carolina.

Mississippi Flyway Council: July 22-23, Doubletree Inn, Westport, Missouri.

Central Flyway Council: July 20-21, Holiday Inn, Estes Park, Colorado.

Pacific Flyway Council: July 19, Doubletree Hotel, Spokane City Center, Spokane, Washington.

Review of Public Comments

This supplemental rulemaking describes Flyway Council recommended changes based on the preliminary proposals published in the April 11, 2006, Federal Register. We have included only those recommendations requiring either new proposals or substantial modification of the preliminary proposals. This supplement does not include recommendations that simply support or oppose preliminary proposals and provide no recommended alternatives. We will consider these recommendations later in the regulations-development process. We will publish responses to all proposals and written comments when we develop final frameworks. In addition, this supplemental rulemaking contains the regulatory alternatives for the 2006-07 duck hunting seasons. We have included all Flyway Council recommendations received relating to the development of these alternatives.

We seek additional information and comments on the recommendations in this supplemental proposed rule. New proposals and modifications to previously described proposals are discussed below. Wherever possible, they are discussed under headings corresponding to the numbered items identified in the April 11, 2006, proposed rule. Only those categories requiring your attention or for which we received Flyway Council recommendations are discussed below.

1. Ducks

Categories used to discuss issues related to duck harvest management are: (A) General Harvest Strategy, (B) Regulatory Alternatives, including specification of framework dates, season length, and bag limits, (C) Zones and Split Seasons, and (D) Special Seasons/Species Management.

A. General Harvest Strategy

Council Recommendations: The Upper- and Lower-Region Regulations Committees of the Mississippi Flyway Council recommended that regulations changes be restricted to one step per year, both when restricting as well as liberalizing hunting regulations.

Service Response: As we stated last year in the June 24, 2005, Federal Register (70 FR 36794), our incorporation of a one-step constraint into the Adaptive Harvest Management (AHM) process was addressed by the AHM Task Force of the International Association of Fish and Wildlife Agencies (IAFWA) in its report and recommendations. This recommendation will be included in considerations of potential changes to the set of regulatory alternatives at a later time.

B. Regulatory Alternatives

Council Recommendations: The Upper- and Lower-Region Regulations Committees of the Mississippi Flyway Council recommended that regulatory alternatives for duck hunting seasons remain the same as those used in 2005.

The Central Flyway Council recommended that the Service adopt AHM duck regulations packages and additional species/sex restrictions for the Central Flyway in 2006-07 that are the same as those used in the 2005-06 season, except for the following changes necessary for implementation of the Hunter's Choice evaluation proposal, provided that Federal frameworks permit open seasons for pintails and canvasbacks:

(1) In Montana, Nebraska, Colorado, Oklahoma, and New Mexico, frameworks will establish 39-day season lengths, concurrent with the regular season zones and splits, and 1-bird daily bag limit for both pintails and canvasbacks; and

(2) In North Dakota, South Dakota, Wyoming, Kansas, and Texas, Hunter's Choice bag limit regulations will be used as follows:

Within the “liberal” and “moderate” regulatory alternatives, the daily bag limit will be 5 ducks, with species and sex restrictions as follows: Scaup, redhead, and wood duck—2; only 1 duck from the following group: Hen mallard, mottled duck, pintail, canvasback. Within the “restrictive” regulatory alternative, the daily bag limit will be 3 ducks, with species and sex restrictions as follows: Scaup, redhead and wood duck—2; only 1 duck from the following group: Hen mallard, mottled duck, pintail, canvasback. The possession limit will be twice the daily bag limit under all regulatory alternatives.

The Central Flyway Council further recommends that these frameworks remain in place for the duration of the Hunter's Choice evaluation.

Service Response: On March 11, 2005, the AHM Task Force submitted a draft final report (http://migratorybirds.fws.gov/mgmt/ahm/taskforce/taskforce.htm) to the IAFWA Executive Committee concerning the future development and direction of AHM. The Task Force endeavored to develop a strategic approach that was comprehensive and integrative, that recognized the diverse perspectives and desires of stakeholders, that was consistent with resource monitoring and assessment capabilities, and that hopefully could be embraced by all four Flyways Councils. We appreciate the extensive discussion the report has received over the past year and look forward to continuing dialogue concerning the future strategic course for AHM.

One of the most widely debated issues continues to be the nature of the regulatory alternatives. The Task Force recommended a simpler and more conservative approach than is reflected in the regulatory alternatives used since 1997, which are essentially those proposed by the Service for the 2006-07 hunting season (April 11 Federal Register). As yet, however, no consensus has emerged among the Flyway Councils concerning modifications to the regulatory alternatives, nor is such consensus expected in time to select a regulatory alternative for the 2006-07 hunting season. Therefore, the regulatory alternatives proposed in the April 11 Federal Register will be used for the 2006-07 hunting season. In 2005, the AHM regulatory alternatives were modified to consist only of the maximum season lengths, framework dates, and bag limits for total ducks and mallards. Restrictions for certain species within these frameworks that are not covered by existing harvest strategies will be addressed during the late-season regulations process. For those species with existing harvest strategies (canvasbacks and pintails), those strategies to be used for the 2006-07 hunting season.

In November 2005 and January 2006, the Service's Division of Migratory Bird Management conducted technical reviews of the Central Flyway's “Hunter's-Choice” bag-limit experiment. Based on these reviews, the Central Flyway submitted a revised proposal to the Service in March 2006. The Service is considering this revised proposal to implement the “Hunter's-Choice” bag-limit experiment in the Central Flyway. This proposal will be addressed during the late-season regulations process.

C. Zones and Split Seasons

Council Recommendations: The Central Flyway Council recommended a minor change to the High Plains Mallard Management Unit (HPMMU) boundary in South Dakota.

The Pacific Flyway Council recommended two changes to zones in the Pacific Flyway for the duck season framework: (1) Modifying the boundary between the Northeast and Balance of the State Zone in the Shasta Valley of California; and (2) creating two zones in the Pacific Flyway portion of Wyoming.

4. Canada Geese

A. Special Seasons

Council Recommendations: The Atlantic Flyway Council made several recommendations dealing with early Canada goose seasons. First, the Council recommended that the Service allow the use of special regulations (electronic calls, unplugged guns, extended hunting hours) later than September 15 during existing September Canada goose hunting seasons in Atlantic Flyway States. Use of these special regulations would be limited to the geographic areas of States that were open to hunting and under existing September season ending dates as approved by the Service for the 2006 regulation cycle. This regulation would take effect as soon as the final rule on resident Canada goose management is effective. Second, the Council recommended increasing the Atlantic Flyway's September Canada goose hunting season daily bag limit to 15 geese, with a possession limit of 30 geese, beginning with the 2006-07 hunting season. Lastly, the Council recommended allowing Maryland to modify the boundary of their Early Resident Canada Goose Western Zone.

The Central Flyway Council recommended that evaluation requirements for September Canada goose hunting seasons from September 16 to September 30 be waived for all east-tier Central Flyway States south of North Dakota. The Council also recommended that the Oklahoma experimental September Canada goose season be allowed to continue until sufficient goose tail fan samples are obtained for the September 16-30 time period to meet Service evaluation requirements and that Kansas be allowed to implement a three year (2006-08) experimental Canada goose season during the September 16-30 period.

B. Regular Seasons

Council Recommendations: The Upper- and Lower-Region Regulations Committees of the Mississippi Flyway Council recommended that the framework opening date for all species of geese for the regular goose seasons be September 16 in 2006 and future years. If this recommendation is not approved, the Committees recommended that the framework opening date for all species of geese for the regular goose seasons in Michigan and Wisconsin be September 16, 2006.

The Central Flyway Council recommended that Canada goose regulations be moved to the early-season regulations schedule in the east-tier States of the Central Flyway. Further, the Council recommended a season framework of 107 days with a daily bag limit of 3 Canada geese (or any other goose species except light geese and white-fronted geese) in all east-tier States, except in the Big Stone Power Plant area of South Dakota where the daily bag limit would be 3 until November 30 and 2 thereafter. Framework dates would be September 16 to the Sunday nearest February 15 (February 18, 2007). States could split the season twice, and the possession limit would be twice the daily bag limit.

7. Snow and Ross's (Light) Geese

Council Recommendations: The Atlantic Flyway Council recommended raising the possession limit of geese to four times the daily bag limit, except where currently more liberal.

8. Swans

Council Recommendations: The Atlantic Flyway Council recommended allowing the take of tundra swans during the special youth waterfowl hunt day(s) to those individuals holding a valid permit/tag.

9. Sandhill Cranes

Council Recommendations: The Central Flyway Council recommended using the 2006 Rocky Mountain Population sandhill crane harvest allocation of 1,321 birds as proposed in the allocation formula using the 2003-2005 three-year running average.

The Pacific Flyway Council recommended initiating a limited hunt for Lower Colorado River sandhill cranes in Arizona, with the goal of the hunt being a limited harvest of 10 cranes in January. To limit harvest, Arizona would issue permit tags to hunters and require mandatory check of all harvested cranes. To limit disturbance of wintering cranes, Arizona would restrict the hunt to one 3-day period. Arizona would also coordinate with the National Wildlife Refuges where cranes occur.

11. Moorhens and Gallinules

Council Recommendations: The Atlantic Flyway Council recommended changing the framework closing date for moorhens and gallinules from January 20 to January 31 to help standardize the framework ending dates for those webless species that are found in the same areas as waterfowl.

12. Rails

Council Recommendations: The Atlantic Flyway Council recommended changing the framework closing date for rails from January 20 to January 31 to help standardize the framework ending dates for those webless species that are found in the same areas as waterfowl.

16. Mourning Doves

Council Recommendations: The Atlantic, Mississippi, and Central Flyway Councils supported the Service's recommended guidelines for dove zones and split seasons in the Eastern and Central Management Units. The recommended guidelines consisted of the following:

(1) A zone is a geographic area or portion of a State, with a contiguous boundary, for which independent dates may be selected for the dove season.

(2) States in management units approved for zoning may select a zone/split option during an open season. It must remain in place for a 5-year period.

(3) Zoning periods for dove hunting will conform to those years used for ducks, e.g., 2006-2010.

(4) The zone/split configuration consists of two zones with the option for 3-way (3-segment) split seasons in one or both zones. As a grandfathered arrangement, Texas will have three zones with the option for 2-way (2 segments) split seasons in one, two, or all three zones.

(5) States that do not wish to zone for dove hunting may split their seasons into no more than three segments.

The Atlantic and Mississippi Flyway Councils recommended allowing States in the Eastern Management Unit (EMU) to adopt hunting seasons and daily bag limits that include an aggregate daily bag limit composed of mourning doves and white-winged doves, singly or in combination. The Councils further recommended that States be allowed to begin mourning dove seasons as early as September 1, regardless of zones.

17. White-Winged and White-Tipped Doves

Council Recommendations: The Atlantic and Mississippi Flyway Councils recommended allowing States in the Eastern Management Unit (EMU) to adopt hunting seasons and daily bag limits that include an aggregate daily bag limit composed of mourning doves and white-winged doves, singly or in combination.

18. Alaska

Council Recommendations: The Pacific Flyway Council recommended maintaining status quo in the Alaska early-season framework, except for the following changes: (1) Council supports an increase in the daily limit for white geese from 3 to 4, consistent with other Pacific Flyway States; and (2) Council recommends that brant season length be restored to 107 days.

Public Comment Invited

The Department of the Interior's policy is, whenever practicable, to afford the public an opportunity to participate in the rulemaking process. We intend that adopted final rules be as responsive as possible to all concerned interests and, therefore, seek the comments and suggestions of the public, other concerned governmental agencies, nongovernmental organizations, and other private interests on these proposals. Accordingly, we invite interested persons to submit written comments, suggestions, or recommendations regarding the proposed regulations to the address indicated under the caption ADDRESSES.

Special circumstances involved in the establishment of these regulations limit the amount of time that we can allow for public comment. Specifically, two considerations compress the time in which the rulemaking process must operate: (1) The need to establish final rules at a point early enough in the summer to allow affected State agencies to appropriately adjust their licensing and regulatory mechanisms; and (2) the unavailability, before mid-June, of specific, reliable data on this year's status of some waterfowl and migratory shore and upland game bird populations. Therefore, we believe that to allow comment periods past the dates specified is contrary to the public interest. Before promulgation of final migratory game bird hunting regulations, we will take into consideration all comments received. Such comments, and any additional information received, may lead to final regulations that differ from these proposals.

You may inspect comments received on the proposed annual regulations during normal business hours at the Service's office in room 4107, 4501 North Fairfax Drive, Arlington, Virginia. For each series of proposed rulemakings, we will establish specific comment periods. We will consider, but possibly may not respond in detail to, each comment. As in the past, we will summarize all comments received during the comment period and respond to them after the closing date.

NEPA Consideration

NEPA considerations are covered by the programmatic document “Final Supplemental Environmental Impact Statement: Issuance of Annual Regulations Permitting the Sport Hunting of Migratory Birds (FSES 88-14),” filed with the Environmental Protection Agency on June 9, 1988. We published Notice of Availability in the Federal Register on June 16, 1988 (53 FR 22582). We published our Record of Decision on August 18, 1988 (53 FR 31341). In addition, an August 1985 environmental assessment entitled “Guidelines for Migratory Bird Hunting Regulations on Federal Indian Reservations and Ceded Lands” is available from the address indicated under the caption ADDRESSES.

In a notice published in the September 8, 2005, Federal Register (70 FR 53376), we announced our intent to develop a new Supplemental Environmental Impact Statement for the migratory bird hunting program. Public scoping meetings were held in the spring of 2006, and were detailed in a March 9, 2006, Federal Register notice (71 FR 12216).

Endangered Species Act Consideration

Prior to issuance of the 2006-07 migratory game bird hunting regulations, we will comply with provisions of the Endangered Species Act of 1973, as amended (16 U.S.C. 1531-1543; hereinafter the Act), to ensure that hunting is not likely to jeopardize the continued existence of any species designated as endangered or threatened or modify or destroy its critical habitat and is consistent with conservation programs for those species. Consultations under Section 7 of this Act may cause us to change proposals in this and future supplemental proposed rulemaking documents.

Executive Order 12866

The migratory bird hunting regulations are economically significant and were reviewed by the Office of Management and Budget (OMB) under Executive Order 12866. As such, a cost/benefit analysis was initially prepared in 1981. This analysis was subsequently revised annually from 1990-96, updated in 1998, and updated again in 2004. It is further discussed below under the heading Regulatory Flexibility Act. Results from the 2004 analysis indicate that the expected welfare benefit of the annual migratory bird hunting frameworks is on the order of $734 million to $1.064 billion, with a mid-point estimate of $899 million. Copies of the cost/benefit analysis are available upon request from the address indicated under ADDRESSES or from our Web site at http://www.migratorybirds.gov.

Executive Order 12866 also requires each agency to write regulations that are easy to understand. We invite comments on how to make this rule easier to understand, including answers to questions such as the following:

(1) Are the requirements in the rule clearly stated?

(2) Does the rule contain technical language or jargon that interferes with its clarity?

(3) Does the format of the rule (grouping and order of sections, use of headings, paragraphing, etc.) aid or reduce its clarity?

(4) Would the rule be easier to understand if it were divided into more (but shorter) sections?

(5) Is the description of the rule in the SUPPLEMENTARY INFORMATION section of the preamble helpful in understanding the rule?

(6) What else could we do to make the rule easier to understand?

Send a copy of any comments that concern how we could make this rule easier to understand to: Office of Regulatory Affairs, Department of the Interior, Room 7229, 1849 C Street, NW., Washington, DC 20240. You may also e-mail the comments to this address: Exsec@ios.doi.gov.

Regulatory Flexibility Act

These regulations have a significant economic impact on substantial numbers of small entities under the Regulatory Flexibility Act (5 U.S.C. 601 et seq.). We analyzed the economic impacts of the annual hunting regulations on small business entities in detail as part of the 1981 cost-benefit analysis discussed under Executive Order 12866. This analysis was revised annually from 1990-95. In 1995, the Service issued a Small Entity Flexibility Analysis (Analysis), which was subsequently updated in 1996, 1998, and 2004. The primary source of information about hunter expenditures for migratory game bird hunting is the National Hunting and Fishing Survey, which is conducted at 5-year intervals. The 2004 Analysis was based on the 2001 National Hunting and Fishing Survey and the U.S. Department of Commerce's County Business Patterns, from which it was estimated that migratory bird hunters would spend between $481 million and $1.2 billion at small businesses in 2004. Copies of the Analysis are available upon request from the address indicated under ADDRESSES or from our Web site at http://www.migratorybirds.gov.

Small Business Regulatory Enforcement Fairness Act

This rule is a major rule under 5 U.S.C. 804(2), the Small Business Regulatory Enforcement Fairness Act. For the reasons outlined above, this rule has an annual effect on the economy of $100 million or more. However, because this rule establishes hunting seasons, we do not plan to defer the effective date under the exemption contained in 5 U.S.C. 808(1).

Paperwork Reduction Act

We examined these regulations under the Paperwork Reduction Act of 1995 (PRA). There are no new information collections in this proposed rule that would require OMB approval under the PRA. The existing various recordkeeping and reporting requirements imposed under regulations established in 50 CFR part 20, subpart K, are utilized in the formulation of migratory game bird hunting regulations. Specifically, OMB has approved the information collection requirements of the surveys associated with the Migratory Bird Harvest Information Program and assigned clearance number 1018-0015 (expires 2/29/2008). This information is used to provide a sampling frame for voluntary national surveys to improve our harvest estimates for all migratory game birds in order to better manage these populations. OMB has also approved the information collection requirements of the Sandhill Crane Harvest Survey and assigned clearance number 1018-0023 (expires 11/30/2007). The information from this survey is used to estimate the magnitude and the geographical and temporal distribution of the harvest, and the portion it constitutes of the total population. A Federal agency may not conduct or sponsor, and a person is not required to respond to, a collection of information unless it displays a currently valid OMB control number.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this proposed rule, has determined that this proposed rule will not unduly burden the judicial system and that it meets the requirements of sections 3(a) and 3(b)(2) of Executive Order 12988.

Takings Implication Assessment

In accordance with Executive Order 12630, this proposed rule, authorized by the Migratory Bird Treaty Act, does not have significant takings implications and does not affect any constitutionally protected property rights. This rule will not result in the physical occupancy of property, the physical invasion of property, or the regulatory taking of any property. In fact, these rules allow hunters to exercise otherwise unavailable privileges and, therefore, reduce restrictions on the use of private and public property.

Energy Effects—Executive Order 13211

On May 18, 2001, the President issued Executive Order 13211 on regulations that significantly affect energy supply, distribution, and use. Executive Order 13211 requires agencies to prepare Statements of Energy Effects when undertaking certain actions. While this proposed rule is a significant regulatory action under Executive Order 12866, it is not expected to adversely affect energy supplies, distribution, or use. Therefore, this action is not a significant energy action and no Statement of Energy Effects is required.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and tribes to determine which seasons meet their individual needs. Any State or Indian tribe may be more restrictive than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with Executive Order 13132, these regulations do not have significant federalism effects and do not have sufficient federalism implications to warrant the preparation of a Federalism Assessment.

List of Subjects in 50 CFR Part 20

Exports, Hunting, Imports, Reporting and recordkeeping requirements, Transportation, Wildlife.

The rules that eventually will be promulgated for the 2006-07 hunting season are authorized under 16 U.S.C. 703-712 and 16 U.S.C. 742a-j.

Dated: May 17, 2006.
Matt Hogan,
Acting Assistant Secretary for Fish and Wildlife and Parks.

BILLING CODE 4310-55-P

[FR Doc. 06-4896 Filed 5-26-06; 8:45 am]

BILLING CODE 4310-55-C